NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 7, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. e-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Commissary Agency, (N1-506-02-3, 140 items, 139 temporary items). Records relating to personnel management and legal affairs. Included are records relating to such subjects as career development and internship programs, reemployment matters, overseas tour extensions, training courses, special pay rates, performance management system guidelines, incentive awards, relocation services guidelines and applications, reduction and realignment programs, early retirement and separations, personnel strength reporting, litigation cases, legal representation, contractual disputes, and fraud investigations. Also included are electronic copies of documents created using electronic mail and word processing. Proposed for permanent retention are recordkeeping copies of files relating to the preparation and processing of legislation. This schedule authorizes the agency to apply the proposed disposition instructions to any recordkeeping medium.

2. Department of Justice, Civil Rights Division (N1-60-02-1, 4 items, 3 temporary items). Single section case files relating to enforcement of Title I of the Americans with Disabilities Act of 1990. Also included are electronic copies of documents created using word processing and electronic mail. Recordkeeping copies of multi-section case files are proposed for permanent retention.

3. Department of Justice, Drug Enforcement Administration (N1-170-02-1, 4 items, 4 temporary items). Records relating to procurement transactions, including market survey files, rejected requisition files, and logs containing control numbers assigned to procurement-related transactions. Also included are electronic copies of records created using electronic mail and word processing.

4. Department of Justice, Drug Enforcement Administration (N1-170-02-2, 2 items, 2 temporary items). Records relating to advance procurement planning, including electronic copies of records created using electronic mail and word processing.

5. Department of Justice, United States Marshals Service (N1-527-02-2, 3 items, 2 temporary items). Electronic copies of documents created using electronic mail and word processing that are accumulated in connection with the preparation of orientation and briefing books for senior management. Recordkeeping copies of orientation and briefing books are proposed for permanent retention.

6. Department of Justice, United States Marshals Service (N1-527-02-3, 4 items, 3 temporary items). Working papers, charts, and preliminary report information relating to tactical and strategic planning. Also included are electronic copies of documents created using electronic mail and word processing. Recordkeeping copies of published studies, strategic plans, annual operating plans, and assessment reports are proposed for permanent retention.

7. Department of Justice, Bureau of Prisons (N1-129-02-3, 8 items, 8 temporary items). Records of the Industrial, Education and Vocational Training Financial Management Branch consisting of program statement files, operations memoranda files, special projects files, general correspondence files, institution files, program review audits, and audit reports. Also included are electronic copies of documents created using electronic mail and word processing.

8. Department of State, Bureau of Intelligence and Research (N1-59-02-4, 37 items, 21 temporary items). Chronological files, document search files, and reference files accumulated by the Office of Intelligence Resources Coordination. Also included are electronic copies of documents created using electronic mail and word processing. Proposed for permanent retention are recordkeeping copies of such records as subject files, visa case files, interagency committee and working group files, country files, counterintelligence files, and foreign disclosure files.

9. Department of the Treasury, Bureau of Alcohol, Tobacco and Firearms (N1-436-02-2, 3 items, 3 temporary items). Employee service agreements maintained by the Travel and Relocation Branch that are used to determine employee eligibility for travel and transportation expenses when transferred or assigned to a new post. Also included are electronic copies of documents created using electronic mail and word processing.

10. Federal Emergency Management Agency, Office of Policy and Regional Operations (N1-311-01-4, 4 items, 3 temporary items). Records accumulated in connection with the National Performance Review. Included are program office reports, internal agency correspondence, and electronic copies of documents created using electronic mail and word processing. Recordkeeping copies of final agency reports submitted to the White House are proposed for permanent retention.

11. Farm Credit Administration, Agency-wide (N1-103-01-1, 12 items, 9 temporary items). Web site pages containing copies of records duplicated in other agency files, audiovisual records that do not document mission-related activities, and retirement case files. Also included are electronic copies of records created using electronic mail and word processing. Proposed for permanent retention are audiovisual records that document the agency's mission and copies of web site pages that are not duplicated in other records. The schedule specifies that initial transfers of permanent web pages to NARA will consist of paper copies but also allows for future transfers in an electronic format. Likewise, audiovisual records currently maintained in paper will initially be transferred to NARA in that medium but may be transferred in an electronic format in the future.

12. National Archives and Records Administration, Government-wide (N1-GRS-02-1, 20 items, 20 temporary items). Employment applications and examination and certification records included in General Records Schedule (GRS) 1, Civilian Personnel Records. Included are such records as correspondence or notices received from eligibles, cancelled and ineligible applications for positions filled from a register or inventory, and eligible applications for positions that either are not referred to the hiring official or are returned to the examining office by the hiring official. This schedule also revises series descriptions or disposition instructions for records already included in GRS 1, including examination announcement case files, registers of eligibles, and certificate files.

13. Office of Navajo and Hopi Indian Relocation, Administrative Services Division (N1-220-02-15, 19 items, 12 temporary items). Electronic data of the Accounting Information System, including general ledger data, daily accounting data, electronic fund transfer vendor information, and query reports. Also included are daily, weekly, monthly, six-week, and yearly backups. Proposed for permanent retention from the Accounting Information System are client and vendor databases and related system documentation.

14. Office of Personnel Management, Agency-wide (N9-478-02-1, 2 items, 2 temporary items). Electronic copies of records created using electronic mail and word processing that relate to administrative management. Included are electronic copies of records pertaining to internal agency housekeeping operations such as management improvement programs, records disposition, and forms control. Recordkeeping copies of these files are included in the Administrative Management Section of the OPM Administrative Manual Supplement. This schedule does not include descriptions of records at the file series level, but, instead, provides citations to the agency's Administrative Manual Supplement. To facilitate review of this schedule, NARA will provide the Administrative Management Section of the manual to requestors.

15. Office of Personnel Management, Agency-wide (N9-478-02-3, 2 items, 2 temporary items). Electronic copies of records created using electronic mail and word processing that relate to appeals actions. Included are electronic copies of records pertaining to such subjects as Administrative Law Judge qualifications and appellate cases. Recordkeeping copies of these files are included in the Appeals Section of the OPM Administrative Manual Supplement. This schedule does not include descriptions of records at the file series level, but, instead, provides citations to the agency's Administrative Manual Supplement. To facilitate review of this schedule, NARA will provide the Appeals Section of the manual to requestors.

16. Office of Personnel Management, Agency-wide (N9-478-02-4, 2 items, 2 temporary items). Electronic copies of records created using electronic mail and word processing that relate to budget and finance. Included are electronic copies of records pertaining to such subjects as internal payroll, work reporting, cost analysis, and the budget program. Recordkeeping copies of these files are included in Budget and Finance Section of the OPM Administrative Manual Supplement. This schedule does not include descriptions of records at the file series level, but, instead, provides citations to the agency's Administrative Manual Supplement. To facilitate review of this schedule, NARA will provide the Budget and Finance Section of the manual to requestors.

17. Office of Personnel Management, Agency-wide (N9-478-02-5, 2 items, 2 temporary items). Electronic copies of records created using electronic mail and word processing that relate to government-wide classification and compensation for positions in the Federal Government. Included are electronic copies of records pertaining to such subjects as occupational series definitions and pay and leave regulations. Recordkeeping copies of these files are included in the Classification and Compensation Section of the OPM Administrative Manual Supplement. This schedule does not include descriptions of records at the file series level, but, instead, provides citations to the agency's Administrative Manual Supplement. To facilitate review of this schedule, NARA will provide the Classification and Compensation Section of the manual to requestors.

18. Office of Personnel Management, Agency-wide (N9-478-02-6, 2 items, 2 temporary items). Electronic copies of records created using electronic mail and word processing that relate to the organization and activities of boards and committees over which the agency has administrative jurisdiction. Included are electronic copies of records associated with such files as general correspondence, publications, news releases, and speeches. Recordkeeping copies of these files are included in the Committee Management Section of the OPM Administrative Manual Supplement. This schedule does not include descriptions of records at the file series level, but, instead, provides citations to the agency's Administrative Manual Supplement. To facilitate review of this schedule, NARA will provide the Committee Management Section of the manual to requestors.

19. Office of Personnel Management, Agency-wide (N9-478-02-8, 2 items, 2 temporary items). Electronic copies of records created using electronic mail and word processing that relate to Government-wide employment processes. Included are electronic copies of records pertaining to such subjects as certification of eligibles, selections, appointments, placements, and transfers. Recordkeeping copies of these files are included in the Employment Section of the OPM Administrative Manual Supplement. This schedule does not include descriptions of records at the file series level, but, instead, provides citations to the agency's Administrative Manual Supplement. To facilitate review of this schedule, NARA will provide the Employment Section of the manual to requestors.

20. Office of Personnel Management, Agency-wide (N9-478-02-9, 2 items, 2 temporary items). Electronic copies of records created using electronic mail and word processing that relate to Government-wide labor-management programs. Included are electronic copies of records pertaining to such subjects as unfair labor practices, contract agreements, and arbitration decisions. Recordkeeping copies of these files are included in the Employee Relations and Services Section of the OPM Administrative Manual Supplement. This schedule does not include descriptions of records at the file series level, but, instead, provides citations to the agency's Administrative Manual Supplement. To facilitate review of this schedule, NARA will provide the Employee Relations and Services Section of the manual to requestors.

21. Office of Personnel Management, Agency-wide (N9-478-02-10, 2 items, 2 temporary items). Electronic copies of records created using electronic mail and word processing that relate to the Government-wide personnel management evaluation program. Included are electronic copies of records pertaining to such subjects as evaluations and special studies, the Fair Labor Standards Act, and position classification advisory opinions. Recordkeeping copies of these files are included in the Evaluations Section of the OPM Administrative Manual Supplement. This schedule does not include descriptions of records at the file series level, but, instead, provides citations to the agency's Administrative Manual Supplement. To facilitate review of this schedule, NARA will provide the Evaluations Section of the manual to requestors.

22. Office of Personnel Management, Agency-wide (N9-478-02-11, 2 items, 2 temporary items). Electronic copies of records created using electronic mail and word processing that relate to the Government-wide examination and recruitment program. Included are electronic copies of records pertaining to such subjects as test materials, examination announcements, and applicant data sheets. Recordkeeping copies of these files are included in the Examining and Recruiting Section of the OPM Administrative Manual Supplement. This schedule does not include descriptions of records at the file series level, but, instead, provides citations to the agency's Administrative Manual Supplement. To facilitate review of this schedule, NARA will provide the Examining and Recruiting Section of the manual to requestors.

23. Office of Personnel Management, Agency-wide (N9-478-02-13, 2 items, 2 temporary items). Electronic copies of records created using electronic mail and word processing that relate to information services. Included are electronic copies of records pertaining to such subjects as public relations, publications and other information releases, and press services. Recordkeeping copies of these files are included in the Information Services Section of the OPM Administrative Manual Supplement. This schedule does not include descriptions of records at the file series level, but, instead, provides citations to the agency's Administrative Manual Supplement. To facilitate review of this schedule, NARA will provide the Information Services Section of the manual to requestors.

24. Office of Personnel Management, Agency-wide (N9-478-02-15, 2 items, 2 temporary items). Electronic copies of records created using electronic mail and word processing that relate to Government-wide security investigation programs. Included are electronic copies of records relating to investigative and appraisal files as well as to related control and adjudication files. Recordkeeping copies of these files are included in the Investigations Section of the OPM Administrative Manual Supplement. This schedule does not include descriptions of records at the file series level, but, instead, provides citations to the agency's Administrative Manual Supplement. To facilitate review of this schedule, NARA will provide the Investigations Section of the manual to requestors.

25. Office of Personnel Management, Agency-wide (N9-478-02-17, 2 items, 2 temporary items). Electronic copies of records created using electronic mail and word processing that relate to internal and Government-wide medical programs and services. Included are electronic copies of records pertaining to such subjects as individual employee health care, health units, and reviews of confidential information. Recordkeeping copies of these files are included in Medical Section of the OPM Administrative Manual Supplement. This schedule does not include descriptions of records at the file series level, but, instead, provides citations to the agency's Administrative Manual Supplement. To facilitate review of this schedule, NARA will provide the Medical Section of the manual to requestors.

26. Office of Personnel Management, Agency-wide (N9-478-02-19, 2 items, 2 temporary items). Electronic copies of records created using electronic mail and word processing that relate to administration of the civil service retirement system. Included are electronic copies of records pertaining to such subjects as annuities, retirements, disability retirements, and death claims. Recordkeeping copies of these files are included in Retirement Section of the OPM Administrative Manual Supplement. This schedule does not include descriptions of records at the file series level, but, instead, provides citations to the agency's Administrative Manual Supplement. To facilitate review of this schedule, NARA will provide the Retirement Section of the manual to requestors.

27. Office of Personnel Management, Agency-wide (N9-478-02-20, 2 items, 2 temporary items). Electronic copies of records created using electronic mail and word processing that relate to legal matters. Included are electronic copies of records pertaining to such subjects as political activity, the Hatch Act, and the Voting Rights Program. Recordkeeping copies of these files are included in Legal Section of the OPM Administrative Manual Supplement. This schedule does not include descriptions of records at the file series level, but, instead, provides citations to the agency's Administrative Manual Supplement. To facilitate review of this schedule, NARA will provide the Legal Section of the manual to requestors.

Dated: August 15, 2002.
Michael J. Kurtz,
Assistant Archivist for Record Services—Washington, DC.

[FR Doc. 02-21485 Filed 8-22-02; 8:45 am]

BILLING CODE 7515-01-P